DEPARTMENT OF HOUSING AND URBAN DEVELOPMENT

[Docket No. FR-4456-N-21]

Privacy Act of 1974, Deletion of a Privacy Act System of Records

AGENCY: Office of the Chief Information Officer, HUD.

ACTION: Notification of the deletion of a Privacy Act system of records.

SUMMARY: The Department proposes to delete one system of records from its inventory of records system subject to the Privacy Act of 1974 (5 U.S.C. 552a), as amended.

DATES: Effective Date: This proposal shall become effective without further notice September 18, 2002, unless comments are received on or before that date which would result in a contrary determination.

Comments Due Date: September 18, 2002.

ADDRESSES: Interested persons are invited to submit comments regarding this notice to the Rules Docket Clerk, Office of General Counsel, Room 10276, Department of Housing and Urban Development, 451 7th Street, SW., Washington, DC 20410-0500. Communications should refer to the above docket number and title. Comments submitted by facsimile (FAX) will not be accepted. A copy of each communication submitted will be available for public inspection and copying between 7:30 and 5:30 p.m. weekdays at the above address.

FOR FURTHER INFORMATION CONTACT: Jeanette Smith, Departmental Privacy Act Officer, Telephone Number (202) 708-2374. (This is not a toll-free number). A telecommunications device for hearing and speech-impaired persons (TTY) is available at 1-800-877-8339 (Federal Information Relay Services). (This is a toll-free number).

SUPPLEMENTARY INFORMATION: Pursuant to the Privacy Act of 1974 (5 U.S.C. 552a) as amended, notice is given that HUD proposes to delete a system of records identified as Single Family Casualty Damage Files, HUD/DEPT-9. The Department has determined that this system is no longer necessary. Accordingly, HUD/DEPT-9 is deleted from HUD's inventory of records subject to the Privacy Act.

Authority: 5 U.S.C. 552a: 88 Stat. 1896; 342 U.S.C. 3535(d).

Dated: August 13, 2002.
Gloria R. Parker,
Chief Technology Officer.

[FR Doc. 02-20938 Filed 8-16-02; 8:45 am]

BILLING CODE 4210-72-M